DEPARTMENT OF ENERGY

Federal Energy Regulatory Commission

[Docket No. EC00-83-000, et al.]

The Potomac Edison Company, et al.; Electric Rate and Corporate Regulation Filings

April 28, 2000.

Take notice that the following filings have been made with the Commission:

1. The Potomac Edison Company, Allegheny Energy Supply Company, L.L.C., PE Transferring Agent, L.L.C. and [To be named], L.L.C.

[Docket No. EC00-83-000]

Take notice that on April 26, 2000, the Potomac Edison Company (Potomac), Allegheny Energy Supply Company, L.L.C. (AE Supply), PE Transferring Agent, L.L.C., and [To be named], L.L.C. (collectively, Applicants), filed a joint application under Section 203 of the Federal Power Act for the disposition of jurisdictional facilities. Applicants request Commission approval of the following intra-corporate transfers of jurisdictional assets: (1) The shares of jurisdictional step-up transformers allocable to Potomac's Maryland, West Virginia and Virginia service areas (excluding Potomac's Virginia hydroelectric assets); (2) securities evidencing Potomac's ownership share of Allegheny Generating Company; (3) certain wholesale power purchase and supply agreements, including those jurisdictional agreements Potomac may enter into between the date of the Application and the date of proposed corporate reorganization; and (4) Potomac's pollution control and solid waste bonds associated with the transferred generating assets.

Comment date: May 26, 2000, in accordance with Standard Paragraph E at the end of this notice.

2. Central Vermont Public Service Corporation

[Docket No. OA97-508-001]

Take notice that on April 25, 2000, Central Vermont Public Service Corporation (Central Vermont), tendered for filing in compliance with the Commission's February 29, 2000 Order in Docket No. OA97-508-000.

Comment date: May 16, 2000, in accordance with Standard Paragraph E at the end of this notice.

3. Virginia Electric and Power Company

[Docket Nos. ER00-1721-000 and ER00-1737-000]

Take notice that on April 25, 2000, Virginia Electric and Power Company agreed to a one-month deferral (from May 1, 2000 to June 1, 2000) of the proposed effective date for the submittals in the above dockets in order to provide additional time for the Commission to review and take action on the filings.

Copies of the filing were served on all persons designated on the official service lists in these dockets.

Comment date: May 16, 2000, in accordance with Standard Paragraph E at the end of this notice.

4. Southern Minnesota Municipal Power Agency

[Docket No. NJ00-3-000]

Take notice that on April 25, 2000, Southern Minnesota Municipal Power Agency tendered for filing modifications to its non-jurisdictional tariff previously filed under Docket Number NJ97-12-000, reflecting changes to Schedules 1 and 4.

Comment date: May 30, 2000, in accordance with Standard Paragraph E at the end of this notice.

5. Central Vermont Public Service Corporation

[Docket No. OA97-706-001]

Take notice that on April 25, 2000, Central Vermont Public Service Corporation (Central Vermont), tendered for filing in compliance with the Commission's February 29, 2000 Order in Docket No. OA97-706-000.

Comment date: May 16, 2000, in accordance with Standard Paragraph E at the end of this notice.

6. Allegheny Energy Service Corporation on behalf of Allegheny Energy Supply Company, LLC

[Docket No. ER00-1987-001]

Take notice that on April 25, 2000, Allegheny Energy Service Corporation on behalf of Allegheny Supply Company, LLC (Allegheny Energy Supply), tendered Amendment No. 1 to Supplement No. 32 to the Market Rate Tariff to incorporate a Netting Agreement with CMS Marketing Services and Trading Company into the tariff provisions.

Allegheny Energy Supply requests a waiver of notice requirements to make the Amendment effective as of March 1, 2000 or such other date as ordered by the Commission.

Copies of the filing have been provided to the Public Utilities Commission on Ohio, the Pennsylvania Public Utility Commission, the Maryland Public Service Commission, the Virginia State Corporation Commission, the West Virginia Public Service Commission and all parties of record.

Comment date: May 16, 2000, in accordance with Standard Paragraph E at the end of this notice.

7. Virginia Electric and Power Company

[Docket No. ER00-2273-000]

Take notice that on April 25, 2000, Virginia Electric and Power Company (Virginia Power), tendered for filing the Service Agreement for Firm Point-to-Point Transmission Service by Virginia Electric and Power Company to MIECO, Inc., and the Service Agreement for Non-Firm Point-to-Point Transmission Service by Virginia Electric and Power Company to MIECO, Inc.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of April 25, 2000, the date of filing of the Service Agreements.

Copies of the filing were served upon MIECO, Inc., the Virginia State Corporation Commission and the North Carolina Utilities Commission.

Comment date: May 16, 2000, in accordance with Standard Paragraph E at the end of this notice.

8. California Independent System Operator Corporation

[Docket No. ER00-2274-000]

Take notice that on April 24, 2000, the California Independent System Operator Corporation (ISO), tendered for filing an agreement entitled “Reliability Must-Run Settlement Agreement Among California ISO, Northern California Power Agency and Pacific Gas and Electric Company” as well as certain additional agreements appended to and incorporated in the Agreement.

The ISO states that this filing has been served upon the Public Utilities Commission of California, the California Electricity Oversight Board, Pacific Gas and Electric Company and Northern California Power Agency.

Comment date: May 15, 2000, in accordance with Standard Paragraph E at the end of this notice.

9. Virginia Electric and Power Company

[Docket No. ER00-2275-000]

Take notice that on April 25, 2000, Virginia Electric and Power Company (Virginia Power), tendered for filing Notice of Termination for the Service Agreement for Non-Firm Point-To-Point Transmission Service dated January 21, 1997 and originally approved by the FERC in a letter order on April 17, 1997 in Docket No. ER97-1937-000 and subsequently assigned to IPMI, successor to Illinois Power Company, in a letter order dated November 16, 1999 in Docket No. ER00-95-000.

Virginia Power respectfully requests a retroactive effective date of the termination of March 31, 2000, as requested by Dynegy Power Marketing, Inc. (DYPM), successor to IPMI.

Copies of the filing were served upon DYPM, the Virginia State Corporation Commission and the North Carolina Utilities Commission.

Comment date: May 16, 2000, in accordance with Standard Paragraph E at the end of this notice.

10. Virginia Electric and Power Company

[Docket No. ER00-2276-000]

Take notice that on April 25, 2000, Virginia Electric and Power Company (Virginia Power), tendered for filing Notice of Termination for the Service Agreement between Illinova Power Marketing, Inc. (IPMI) and Virginia Power for Firm Point-To-Point Transmission Service dated October 7, 1999 and approved by the FERC in a letter order on December 29, 1999 under Docket No. ER00-0552-000.

Virginia Power respectfully requests an effective date of the termination of April 30, 2000, as requested by Dynegy Power Marketing, Inc. (DYPM), successor to IPMI.

Copies of the filing were served upon DYPM, the Virginia State Corporation Commission and the North Carolina Utilities Commission.

Comment date: May 16, 2000, in accordance with Standard Paragraph E at the end of this notice.

11. Wisconsin Power & Light Company

[Docket No. ER00-2277-000]

Take notice that on April 25, 2000, Wisconsin Power & Light Company (WPL), tendered for filing an Amendment to Service Agreement No. 2 under FERC Electric Tariff, Original Volume No. 11.

WPL indicates that copies of the filing have been provided to the customer and to the Public Service Commission of Wisconsin.

Comment date: May 16, 2000, in accordance with Standard Paragraph E at the end of this notice.

12. Pacific Gas and Electric Company

[Docket No. ER00-2278-000]

Take notice that on April 25, 2000, Pacific Gas and Electric Company (PG&E), tendered for filing Notice of Termination of the “Economy Energy Agreement” between PG&E and the Public Service Company of New Mexico, PG&E Rate Schedule FERC No. 101.

PG&E has requested a waiver allowing an April 14, 2000, effective termination date.

Copies of this filing have been served upon Public Service Company of New Mexico and the California Public Utilities Commission.

Comment date: May 16, 2000, in accordance with Standard Paragraph E at the end of this notice.

13. South Carolina Electric & Gas Company

[Docket No. ER00-2279-000]

Take notice that on April 25, 2000, South Carolina Electric & Gas Company (SCE&G), tendered for filing a service agreement establishing The Legacy Energy Group, LLC as a firm point-to-point customer under the terms of SCE&G's Open Access Transmission Tariff.

SCE&G requests an effective date of one day subsequent to the filing of the service agreement. Accordingly, SCE&G requests waiver of the Commission's notice requirements.

Copies of this filing were served upon The Legacy Energy Group, LLC and the South Carolina Public Service Commission.

Comment date: May 16, 2000, in accordance with Standard Paragraph E at the end of this notice.

14. South Carolina Electric & Gas Company

[Docket No. ER00-2280-000]

Take notice that on April 25, 2000, South Carolina Electric & Gas Company (SCE&G), tendered for filing a service agreement establishing The Legacy Energy Group, LLC as a non-firm point-to-point customer under the terms of SCE&G's Open Access Transmission Tariff.

SCE&G requests an effective date of one day subsequent to the filing of the service agreement. Accordingly, SCE&G requests waiver of the Commission's notice requirements.

Copies of this filing were served upon The Legacy Energy Group, LLC and the South Carolina Public Service Commission.

Comment date: May 16, 2000, in accordance with Standard Paragraph E at the end of this notice.

15. South Carolina Electric & Gas Company

[Docket No. ER00-2281-000]

Take notice that on April 25, 2000, South Carolina Electric & Gas Company (SCE&G), tendered for filing a service agreement establishing The Legacy Energy Group, LLC as a customer under the terms of SCE&G's Negotiated Market Sales Tariff.

SCE&G requests an effective date of one day subsequent to the date of filing. Accordingly, SCE&G requests waiver of the Commission's notice requirements.

Copies of this filing were served upon The Legacy Energy Group, LLC and the South Carolina Public Service Commission.

Comment date: May 16, 2000, in accordance with Standard Paragraph E at the end of this notice.

16. Central Illinois Light Company

[Docket No. ER00-2282-000]

Take notice that on April 25, 2000, Central Illinois Light Company (CILCO), 300 Liberty Street, Peoria, Illinois 61602, tendered for filing with the Commission a substitute Index of Point-To-Point Transmission Service Customers under its Open Access Transmission Tariff and service agreements for two new customer, El Paso Merchant Energy, L.P., and Amerada Hess Corporation.

CILCO requested an effective date of April 14, 2000 for the service agreements.

Copies of the filing were served on the affected customers and the Illinois Commerce Commission.

Comment date: May 16, 2000, in accordance with Standard Paragraph E at the end of this notice.

17. Puget Sound Energy, Inc.

[Docket No. ER00-2283-000]

Take notice that on April 25, 2000, Puget Sound Energy, Inc., as Transmission Provider, tendered for filing a Service Agreement for Firm Point-To-Point Transmission Service and a Service Agreement for Non-Firm Point-To-Point Transmission Service with APS—Bulk Power Marketing (APS), as Transmission Customer.

A copy of the filing was served upon APS.

Comment date: May 16, 2000, in accordance with Standard Paragraph E at the end of this notice.

18. Puget Sound Energy, Inc.

[Docket No. ER00-2284-000]

Take notice that on April 25, 2000, Puget Sound Energy, Inc., as Transmission Provider, tendered for filing a Service Agreement for Firm Point-To-Point Transmission Service and a Service Agreement for Non-Firm Point-To-Point Transmission Service with Citizens Power Sales LLC (Citizens), as Transmission Customer.

A copy of the filing was served upon Citizens.

Comment date: May 16, 2000, in accordance with Standard Paragraph E at the end of this notice.

19. Puget Sound Energy, Inc.

[Docket No. ER00-2285-000]

Take notice that on April 25, 2000, Puget Sound Energy, Inc., as Transmission Provider, tendered for filing a Service Agreement for Firm Point-To-Point Transmission Service and a Service Agreement for Non-Firm Point-To-Point Transmission Service with Idaho Power Company (Idaho Power), as Transmission Customer.

A copy of the filing was served upon Idaho Power.

Comment date: May 16, 2000, in accordance with Standard Paragraph E at the end of this notice.

20. Puget Sound Energy, Inc.

[Docket No. ER00-2286-000]

Take notice that on April 26, 2000, Puget Sound Energy, Inc., as Transmission Provider, tendered for filing a Service Agreement for Firm Point-To-Point Transmission Service and a Service Agreement for Non-Firm Point-To-Point Transmission Service with Western Power Services (WPS), as Transmission Customer.

A copy of the filing was served upon WPS.

Comment date: May 16, 2000, in accordance with Standard Paragraph E at the end of this notice.

21. Puget Sound Energy, Inc.

[Docket No. ER00-2287-000]

Take notice that on April 25, 2000, Puget Sound Energy, Inc., as Transmission Provider, tendered for filing a Service Agreement for Firm Point-To-Point Transmission Service and a Service Agreement for Non-Firm Point-To-Point Transmission Service with Southern Company Energy and Marketing, Inc. (Southern), as Transmission Customer.

A copy of the filing was served upon Southern.

Comment date: May 16, 2000, in accordance with Standard Paragraph E at the end of this notice.

22. Puget Sound Energy, Inc.

[Docket No. ER00-2288-000]

Take notice that on April 25, 2000, Puget Sound Energy, Inc., as Transmission Provider, tendered for filing a Service Agreement for Firm Point-To-Point Transmission Service and a Service Agreement for Non-Firm Point-To-Point Transmission Service with Valero Power Services Co. (Valero), as Transmission Customer.

A copy of the filing was served upon Valero.

Comment date: May 16, 2000, in accordance with Standard Paragraph E at the end of this notice.

23. Puget Sound Energy, Inc.

[Docket No. ER00-2289-000]

Take notice that on April 25, 2000, Puget Sound Energy, Inc., as Transmission Provider, tendered for filing a Service Agreement for Firm Point-To-Point Transmission Service) and a Service Agreement for Non-Firm Point-To-Point Transmission Service with MP Energy as Transmission Customer.

A copy of the filing was served upon MP Energy.

Comment date: May 16, 2000, in accordance with Standard Paragraph E at the end of this notice.

24. Puget Sound Energy, Inc.

[Docket No. ER00-2290-000]

Take notice that on April 25, 2000, Puget Sound Energy, Inc., as Transmission Provider, tendered for filing a Service Agreement for Firm Point-To-Point Transmission Service and a Service Agreement for Non-Firm Point-To-Point Transmission Service with Bonneville Power Administration (BPA), as Transmission Customer.

A copy of the filing was served upon BPA.

Comment date: May 16, 2000, in accordance with Standard Paragraph E at the end of this notice.

25. Puget Sound Energy, Inc.

[Docket No. ER00-2291-000]

Take notice that on April 25, 2000, Puget Sound Energy, Inc., as Transmission Provider, tendered for filing a Service Agreement for Firm Point-To-Point Transmission Service and a Service Agreement for Non-Firm Point-To-Point Transmission Service with British Columbia Power Exchange Corporation (Powerex), as Transmission Customer.

A copy of the filing was served upon Powerex.

Comment date: May 16, 2000, in accordance with Standard Paragraph E at the end of this notice.

26. California Independent System Operator Corporation

[Docket No. ER00-2292-000]

Take notice that on April 25, 2000, the California Independent System Operator Corporation, tendered for filing an Interconnected Control Area Operating Agreement between the ISO and Nevada Power Company for acceptance by the Commission.

The ISO states that this filing has been served on Nevada Power Company, the Nevada Public Service Commission, and the California Public Utilities Commission.

The ISO is requesting waiver of the 60-day notice requirement to allow the Interconnected Control Area Operating Agreement to be made effective as of March 21, 2000.

Comment date: May 16, 2000, in accordance with Standard Paragraph E at the end of this notice.

27. Entergy Services, Inc.

[Docket No. ER00-2293-000]

Take notice that on April 25, 2000, Entergy Services, Inc., on behalf of Entergy Gulf States, Inc., tendered for filing a Generator Imbalance Agreement with Calcasieu Power, LLC.

Comment date: May 16, 2000, in accordance with Standard Paragraph E at the end of this notice.

28. PJM Interconnection, L.L.C.

[Docket No. ER00-2294-000]

Take notice that on April 25, 2000, PJM Interconnection, L.L.C. (PJM), tendered for filing signature pages to the Reliability Assurance Agreement among Load Serving Entities in the PJM Control Area (RAA) for BGE Home Products & Services, Inc. (BGE), Conectiv Energy Supply, Inc. (Conectiv), and Smart Energy.com, Inc. (Smart Energy), and an amended Schedule 17 listing the parties to the RAA.

PJM states that it served a copy of its filing on all parties to the RAA, including BGE, Conectiv, and Smart Energy, and each of the state electric regulatory commissions within the PJM Control Area.

Comment date: May 16, 2000, in accordance with Standard Paragraph E at the end of this notice.

29. Wisconsin Public Service Corporation

[Docket No. ER00-2295-000]

Take notice that on April 25, 2000, Wisconsin Public Service Corporation (WPSC), tendered for filing an amendment to FERC Electric Tariff No. 10, its market-based rates sales tariff (MR Tariff). WPSC filed this amendment to enable it to make sales of the following ancillary services under the MR Tariff: Regulation and Frequency Response Service, Operating Reserves— Spinning Reserve Service and Operating Reserves—Supplemental Reserve Service.

Copies of the filing were served upon the public utility's customers under the MR Tariff, the Public Service Commission of Wisconsin and the Michigan Public Service Commission.

Comment date: May 16, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-11123 Filed 5-3-00; 8:45 am]

BILLING CODE 6717-01-P